DEPARTMENT OF THE INTERIOR

National Park Service

30-Day Notice of Submission to Office of Management and Budget; Opportunity for Public Comment

AGENCY: National Park Service, Department of the Interior.

ACTION: Notice and request for comments.

SUMMARY: Under provisions of the Paperwork Reduction Act of 1995 and 5 CFR part 1320, Reporting and Recordkeeping Requirements, the National Park Service (NPS) invites comments on an extension of a currently approved collection of information (OMB Control #1024-0029).

DATES: Public comments on the proposed Information Collection Request (ICR) will be accepted on or before May 29, 2007.

ADDRESSES: You may submit comments directly to the Desk Officer for the Department of the Interior, (OMB 1024-0029) Office of Information and Regulatory Affairs, OMB by fax at 202/395-6566, or be electronic mail at OIRA_DOCKET@omb.eop.gov. Please also send a copy of your comments to Ms. Jo A. Pendry, Concession Program Manager, National Park Service, 1849 C Street, NW., (2410), Washington, DC 20240, or electronically to jo_pendry@nps.gov.

FOR FURTHER INFORMATION CONTACT: Ms. Jo A. Pendry, phone: 202-513-7156, fax: 202-371-2090, or at the address above. You are entitled to a copy of the entire ICR package free-of-charge.

The National Park Service published the 60-day Federal Register notice to solicit comments on this proposed information collection on February 14, 2007, on page 7074. There were no public comments received as a result of publishing in the Federal Register a 60-day Notice of Intention to Request Clearance of Information Collection for this survey.

SUPPLEMENTARY INFORMATION: Title: Concessioner Annual Financial Report.

Form Number(s): 10-356, 10-356A.

OMB Control Number: 1024-0029.

Expiration Date of Approval: April 30, 2007.

Type of Request: Extension of a currently approved information collection

Description of Need: The regulations at 36 CFR part 51 primarily implement Title IV of the National Parks Omnibus Management Act of 1998 (Pub. L. 105-391 or the Act), which requires that the Secretary of the Interior exercise authority in a manner consistent with a reasonable opportunity for a concessioner to realize a profit on his operation as a whole commensurate with the capital invested and the obligations assumed. It also requires that franchise fees be determined with consideration to the opportunity for net profit in relation to both gross receipts and capital invested. The financial information being collected is necessary to provide insight into and knowledge of the concessioner's operation so that this authority can be exercised and franchise fees determined in a timely manner and without an undue burden on the concessioner.

Comments are invited on: (1) The practical utility of the information being gathered; (2) the accuracy of the agency's burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: Annually.

Description of Respondents: National Park Service concessioners.

Total Annual Responses: 500.

Estimate of Burden: Approximately 16 hours per response for the long form; approximately 4 hours per response for the short form.

Total Annual Burden Hours: 3,800.

Total Non-hour Cost Burden: None.

Dated: April 23, 2007.
Leonard E. Stowe,
NPS, Information Collection Clearance Officer.

[FR Doc. 07-2088 Filed 4-26-07; 8:45 am]

BILLING CODE 4312-53-M